DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of five individuals and three entities whose property and interests in property have been blocked pursuant to the Foreign Narcotics Kingpin Designation Act (“Kingpin Act”) (21 U.S.C. 1901-1908, 8 U.S.C. 1182).

DATES: The designation by the Director of OFAC of the five individuals and three entities identified in this notice pursuant to section 805(b) of the Kingpin Act is effective on November 20, 2012.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On November 20, 2012, the Director of OFAC designated the following five individuals and three entities whose property and interests in property are blocked pursuant to section 805(b) of the Kingpin Act.

Individuals

1. CARDONA MARTINEZ, Mayela (a.k.a. CARDONA DE IBARRA, Mayela), Calle Lago de La Doga 5312, Tijuana, Baja California, Mexico; DOB 24 Feb 1961; POB Coahuila, Mexico; Passport 99020046985 (Mexico); R.F.C. CAIM610224 (Mexico) (individual) [SDNTK].

2. CARDONA MARTINEZ, Pedro, Calle Lago La Doga 5301, Tijuana, Baja California, Mexico; DOB 30 Jun 1963; POB Coahuila, Mexico; Passport 100024252 (Mexico) (individual) [SDNTK].

3. IBARRA CARDONA, Luis Gerardo, Calle Lago de La Doga 5312, Tijuana, Baja California, Mexico; DOB 28 Nov 1982; nationality Mexico; citizen Mexico; R.F.C. IACL821128 (Mexico) (individual) [SDNTK].

4. IBARRA CARDONA, Carlos Jesus Ivan, Calle Lago La Doga 5312, Tijuana, Baja California, Mexico; DOB 02 Dec 1986; POB Sonora, Mexico; Passport 970200221199 (Mexico) (individual) [SDNTK].

5. IBARRA FAVILA, Jose Gerardo, Calle Lago de La Doga 5312, Tijuana, Baja California, Mexico; DOB 09 Mar 1961; POB Durango, Mexico; R.F.C. IAFG610309 (Mexico) (individual) [SDNTK].

Entities

6. COMERCIALIZADORA CACHO S.A. DE C.V., Calle Lago La Doga 5312, Tijuana, Baja California, Mexico; Identification Number NBC 80114829 [SDNTK].

7. COMERCIALIZADORA GERMAY DE SONORA S.A. DE C.V., San Luis Rio Colorado, Sonora 83450, Mexico [SDNTK].

8. DISTRIBUIDORA GERMAY S.A. DE C.V., San Luis Rio Colorado, Sonora 83450, Mexico; Registration ID NBC80114835 (Mexico) [SDNTK].

Dated: November 20, 2012.
Adam J. Szubin,
Director, Office of Foreign Assets Control.

[FR Doc. 2012-29007 Filed 11-29-12; 8:45 am]

BILLING CODE 4810-AL-P